DEPARTMENT OF COMMERCE

National Oceanic and Atmospheric Administration

50 CFR Part 223

[Docket No. 030725185-3207-02; I.D. 071403B]

RIN 0648-AR34

Endangered and Threatened Wildlife; Sea Turtle Conservation Requirements

Correction

In rule document 03-21858 beginning on page 51508 in the issue of Wednesday, August 27, 2003, make the following correction:

§223.07 [Corrected]

On page 51514, in the third column, in §223.07(a)(7)(B), in the first line, “/” should read “Escape opening for offshore hooped hard TED.

[FR Doc. C3-21858 Filed 9-18-03; 8:45 am]

BILLING CODE 1505-01-D

ENVIRONMENTAL PROTECTION AGENCY

40 CFR Part 136

[FRL-7529-7]

RIN 2040-AD71

Guidelines Establishing Test Procedures for the Analysis of Pollutants; Analytical Methods for Biological Pollutants in Ambient Water

Correction

In rule document 03-18155 beginning on page 43272 in the issue of Monday, July 21, 2003 make the following corrections:

§136.3 [Corrected]

1. On page 43279, in §136.3(e), in the table, under the heading “ Standard methods 18th, 19, 20th Ed.”, after the 11th entry, add the following: “9230C⁴”.

2. On page 43281, in the same section, in footnote 2, in the first line “???m” should read “μm”.

3. On the same page, in the same section, in footnote 13, in the second line, “βglucuronidase” should read “β-glucuronidase”.

4. On page 43282, in the same section, in the second column, in paragraph (b)(52), in the second line “Colilert-18''” should read “Colilert-18®”.

5. On page 43283, in the same section, in the table, under the heading “Parameter No./name”, in the third entry, “7 Enterocci” should read “7 Enterococci”.

6. On the same page, in the same section, in the same table, under the heading “Preservation²,³”, in the first through third entries “0.008%” should read “0.0008%”.

[FR Doc. C3-18155 Filed 9-18-03; 8:45 am]

BILLING CODE 1505-01-D